DEPARTMENT OF HOMELAND SECURITY

Federal Emergency Management Agency

[Docket ID: FEMA-2020-0018; OMB No. 1660-0148]

Agency Information Collection Activities: Proposed Collection; Comment Request; Letter of Attestation Regarding Export of Certain Scarce or Threatened Medical Resources

AGENCY: Federal Emergency Management Agency, DHS.

ACTION: 60-Day notice and request for comments.

SUMMARY: The Federal Emergency Management Agency, as part of its continuing effort to reduce paperwork and respondent burden, invites the general public to take this opportunity to comment on a revision of a currently approved information collection. In accordance with the Paperwork Reduction Act of 1995, this notice seeks comments concerning FEMA requiring a letter of attestation regarding the Export of Certain Scarce or Threatened Medical Resources submitted to FEMA via Customs and Border Protection's (CBP's) document imaging system.

DATES: Comments must be submitted on or before September 15, 2020.

ADDRESSES: Submit comments at www.regulations.gov under Docket ID FEMA-2020-0018. Follow the instructions for submitting comments.

All submissions received must include the agency name and Docket ID and will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Office of Policy and Program Analysis, Marc Geier, Federal Emergency Management Agency, 500 C Street SW, Washington, DC 20472, (telephone) 202-924-0196, or (email) FEMA-DPA@fema.dhs.gov. You may contact the Information Management Division for copies of the proposed collection of information at email address: FEMA-Information-Collections-Management@fema.dhs.gov.

SUPPLEMENTARY INFORMATION: On April 10, 2020, the FEMA Administrator (Administrator) issued a Temporary Final Rule (TFR) to allocate certain scarce or threatened materials for domestic use, so that these materials may not be exported from the United States without explicit approval by FEMA. The TFR aids the response of the United States to the spread of COVID-19 by ensuring that certain scarce or threatened health and medical resources are appropriately allocated for domestic use.

The Administrator issued the TFR under the authority of the Defense Production Act of 1950, as amended (DPA), and related executive orders and delegations. Most prominently, on April 3, 2020, the President signed a Memorandum on Allocating Certain Scarce or Threatened Health and Medical Resources to Domestic Use (Memorandum). In the Memorandum, the President directed the Secretary of Homeland Security, through the Administrator, and in consultation with the Secretary of Health and Human Services (HHS), to use any and all authority available under section 101 of the DPA to allocate to domestic use, as appropriate, five types of personal protective equipment (PPE) materials (covered materials).

Consistent with the Memorandum, the TFR provides that until August 10, 2020, and subject to certain exemptions, no shipments of covered materials may leave the United States without explicit approval by FEMA. The TFR requires U.S. Customs and Border Protection (CBP), in coordination with such other officials as may be appropriate, to notify FEMA of an intended export of covered materials. CBP must temporarily detain any shipment of such covered materials pending the Administrator's determination whether to return for domestic use, issue a rated order for, or allow the export of part or all of the shipment. In making such determination, the Administrator may consult other agencies and will consider the totality of the circumstances, including: (1) The need to ensure that scarce or threatened items are appropriately allocated for domestic use; (2) minimization of disruption to the supply chain, both domestically and abroad; (3) the circumstances surrounding the distribution of the materials and potential hoarding or price-gouging concerns; (4) the quantity and quality of the materials; (5) humanitarian considerations; and (6) international relations and diplomatic considerations.

FEMA requires a letter of attestation regarding the Export of Certain Scarce or Threatened Medical Resources be submitted to FEMA via CPB's document imaging system and placed on file with CBP, certifying to FEMA the purpose of the shipment of covered materials.

This new collection was submitted and approved by OMB until August 10, 2020, under the emergency clearance process. FEMA is seeking public comments on the collection through the normal clearance process in order to extend the collection, if necessary, should the TFR also be extended beyond its current end date of August 10, 2020.

Collection of Information

Title: Letter of Attestation regarding Export of Certain Scarce or Threatened Medical Resources.

Type of Information Collection: Revision of a currently approved information collection.

OMB Number: 1660-0148.

FEMA Forms: None.

Abstract: FEMA requires a letter of attestation regarding the Export of Certain Scarce or Threatened Medical Resources be submitted to FEMA via CPB's document imaging system and placed on file with CBP, certifying to FEMA the purpose of the shipment of covered materials.

Affected Public: For-Profit Business.

Estimated Number of Respondents: 168.

Estimated Number of Responses: 168.

Estimated Total Annual Burden Hours: 84.

Estimated Total Annual Respondent Cost: $8,568.

Estimated Respondents' Operation and Maintenance Costs: None.

Estimated Respondents' Capital and Start-Up Costs: None.

Estimated Total Annual Cost to the Federal Government: $9,933.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Acting Records Management Branch Chief, Office of the Chief Administrative Officer, Mission Support, Federal Emergency Management Agency, Department of Homeland Security.

[FR Doc. 2020-15664 Filed 7-15-20; 4:15 pm]

BILLING CODE 9111-19-P